DEPARTMENT OF HOMELAND SECURITY

Coast Guard

[Docket No. USCG-2018-0853]

Cooperative Research and Development Agreement: Automatic Identification System/Data Marker Buoy (AIS/DMB) Using/Adapting COTS Technology

AGENCY: U.S. Coast Guard, DHS.

ACTION: Notice of intent; request for comments.

SUMMARY: The Coast Guard is announcing its intent to enter into a Cooperative Research and Development Agreement (CRADA) with Astronics DME to investigate adding/substituting an AIS component into the RB-100 series DMB. While the Coast Guard is currently considering collaborating with Astronics DME, we are soliciting public comment on the possible nature of and participation of other parties in the proposed CRADA. In addition, the Coast Guard also invites other potential non-Federal participants, who have the interest and capability to bring similar contributions to this type of research, to consider submitting proposals for consideration in similar CRADAs.

DATES: Comments must be submitted to the online docket via http://www.regulations.gov, or reach the Docket Management Facility, on or before October 25, 2018.

Synopses of proposals regarding future CRADAs must reach the Coast Guard (see FOR FURTHER INFORMATION CONTACT) on or before October 25, 2018.

ADDRESSES: Submit comments online at http://www.regulations.gov following website instructions.

FOR FURTHER INFORMATION CONTACT: If you have questions on this notice or wish to submit proposals for future CRADAs, contact LT Carlon Brietzke, Project Official, Science & Technology Innovation Center, U.S. Coast Guard Research and Development Center, 1 Chelsea Street, New London, CT 06320, telephone 860-271-2891, email Carlon.F.Brietzke@uscg.mil.

SUPPLEMENTARY INFORMATION:

Public Participation and Request for Comments

We request public comments on this notice. Although we do not plan to respond to comments in the Federal Register, we will respond directly to commenters and may modify our proposal in light of comments.

Comments should be marked with docket number USCG-2018-0853 and should provide a reason for each suggestion or recommendation. You should provide personal contact information so that we can contact you if we have questions regarding your comments; but please note that all comments will be posted to the online docket without change and that any personal information you include can be searchable online (see the Federal Register Privacy Act notice regarding our public dockets, 73 FR 3316, Jan. 17, 2008). We also accept anonymous comments.

We encourage you to submit comments through the Federal eRulemaking Portal at http://www.regulations.gov. If your material cannot be submitted using http://www.regulations.gov, contact the Coast Guard (see FOR FURTHER INFORMATION CONTACT). Documents mentioned in this notice, and all public comments, are in our online docket at http://www.regulations.gov and can be viewed by following that website's instructions. Additionally, if you go to the online docket and sign up for email alerts, you will be notified when comments are posted or a final rule is published.

Do not submit detailed proposals for future CRADAs to the Docket Management Facility. Instead, submit them directly to the Coast Guard (see FOR FURTHER INFORMATION CONTACT).

Discussion

CRADAs are authorized under 15 U.S.C. 3710(a).¹ A CRADA promotes the transfer of technology to the private sector for commercial use, as well as specified research or development efforts that are consistent with the mission of the Federal parties to the CRADA. The Federal party or parties agree with one or more non-Federal parties to share research resources, but the Federal party does not contribute funding.

¹ The statute confers this authority on the head of each Federal agency. The Secretary of DHS's authority is delegated to the Coast Guard and other DHS organizational elements by DHS Delegation No. 0160.1, para. II.B.34.

CRADAs are not procurement contracts. Care is taken to ensure that CRADAs are not used to circumvent the contracting process. CRADAs have a specific purpose and should not be confused with procurement contracts, grants, and other type of agreements.

Under the proposed CRADA, the R&D Center will collaborate with one non-Federal participant. Together, the R&D Center and the non-Federal participant using the RB-100 series DMB (this product has been in use by the aviation community for several years and is a proven design that utilizes AM/FM Radio Frequency location) will investigate adding/substituting an AIS component into the RB-100 series DMB.

We anticipate that the Coast Guard's contributions under the proposed CRADA will include the following:

(1) Provide a USCG AIS transmitter system technical data package for evaluation, modification, fabrication, and testing of an AIS transmitter system for incorporation into an RB-100 series DMB.

(2) Provide technical input related to the AIS transmitter system and its technical data package, as required, along with specific data on known or suspected design weaknesses in the AIS transmitter based on operational assessments.

(3) Provide all support resources, including travel, for Coast Guard staff that supports this CRADA.

(4) Shall accomplish a deployment trial and operational assessment of the demo prototypes AIS-DMBs and share assessment results.

We anticipate that the non-Federal participants' contributions under the proposed CRADA will include the following:

(1) Provide appropriate staff with pertinent expertise to support the above mentioned tasks.

(2) Provide all necessary facility resources needed to integrate the existing or modified USCG AIS transmitter into the existing AM/FM DMB in such a way as to preserve the air deployment stability, water stability and mission reliability characteristics of the existing AM/FM DMB in the resulting AIS-DMB product.

(3) Support testing and analysis efforts as the AIS-DMB evolves during development and completes advanced development tasks, in order to verify achievement of CRADA objectives.

(4) Support an AIS-DMB deployment trial and operational assessment.

The Coast Guard reserves the right to select for CRADA participants all, some, or no proposals submitted for this CRADA. The Coast Guard will provide no funding for reimbursement of proposal development costs. Proposals and any other material submitted in response to this notice will not be returned. Proposals submitted are expected to be unclassified and have not more than five single-sided pages (excluding cover page, DD 1494, JF-12, etc.). The Coast Guard will select proposals at its sole discretion on the basis of:

(1) How well they communicate an understanding, of and ability to meet, the proposed CRADA's goal; and

(2) How well they address the following criteria:

(a) Technical capability to support the non-Federal party contributions described, and

(b) Resources available for supporting the non-Federal party contributions described.

Currently, the Coast Guard is considering Astronics DME for participation in this CRADA. This consideration is based on the fact that Astronics DME manufactures the RB-100 series Datum Marker Buoy. However, we do not wish to exclude other viable participants who manufacture Datum Marker Buoys and/or AIS technologies from this or future similar CRADAs.

This is a technology merging effort. The goal of the Coast Guard for this CRADA is to merge AIS capabilities into Datum Marker Buoys to reduce the amount of manpower, time, and asset availability needed to track and recover jettisoned cargo, derelict vessels, and aid in search-and-rescue cases. Special consideration will be given to small business firms/consortia, and preference will be given to business units located in the U.S. This notice is issued under the authority of 5 U.S.C. 552(a).

Dated: September 11, 2018.
G.C. Rothrock,
Captain, Commanding Officer, U.S. Coast Guard Research and Development Center.

[FR Doc. 2018-20834 Filed 9-24-18; 8:45 am]

BILLING CODE 9110-04-P